DEPARTMENT OF VETERANS AFFAIRS

Advisory Committee on Minority Veterans, Notice of Meeting

The Department of Veterans Affairs (VA) gives notice under the Federal Advisory Committee Act that a meeting of the Advisory Committee on Minority Veterans will be held in Houston, TX from April 9-11, 2019, at the below times and locations:

Date: | Time: | Location:
April 9, 2019 | 8:45 a.m. to 11:00 a.m. | Michael E. DeBakey VA Medical Center, 2002 Holcombe Blvd., Houston TX 77030.
| 2:00 p.m. to 3:45 p.m. | Houston Regional Office, 6900 Almeda Road, Houston, TX 77030.
April 10, 2019 | 9:00 a.m. to 11:00 a.m. | Houston National Cemetery Admin Bldg., Conference Room 10410 Veterans Memorial Drive, Houston, TX 77038.
| 4:30 p.m. to 6:30 p.m. | Town Hall Meeting at the United Way of Greater Houston Community Resource Center, 50 Waugh Drive, Houston, TX 77007.
April 11, 2019 | 8:30 a.m. to 4:15 p.m. | Michael E. DeBakey VA Medical Center, 2002 Holcombe Blvd, Houston, TX 77030.

Sessions are open to the public, except when the Committee is conducting tours of VA facilities, and participating in off-site events. Tours of VA facilities are closed to protect Veterans' privacy and personal information, in accordance with 5 U.S.C. Sec. 552b(c)(6). The site visit will also include a town hall meeting for minority Veterans and those who provide services to minority Veterans.

The purpose of the Committee is to advise the Secretary on the administration of VA benefits and services to minority Veterans, to assess the needs of minority Veterans and to evaluate whether VA compensation and pension, medical and rehabilitation services, memorial services outreach, and other programs are meeting those needs. The Committee will make recommendations to the Secretary regarding such activities subsequent to the meeting.

On the morning of April 9 from 8:45 a.m. to 11:00 a.m., the Committee will meet in open session with key staff at the Michael E. DeBakey VA Medical Center (VAMC) to discuss suicide prevention, outreach to minority, women and homeless Veterans, leadership training programs, and MISSION Act/rural health initiatives. From 11:00 a.m. to 12:00 p.m., the Committee will convene with a closed tour of the Houston VAMC. Tours of VA facilities are closed to protect Veterans' privacy and personal information, in accordance with 5 U.S.C. Sec. 552b(c)(6).

In the afternoon from 2:00 p.m. to 3:45 p.m., the Committee will reconvene at the Houston Regional Office as the Committee is briefed by senior Veterans Benefits Administration staff from the Houston Regional Office to discuss outreach activities to minority Veterans, women and homeless/incarcerated Veterans, leadership training programs, intake sites, catchment area discussion, claims processing, and the home loan program/transformation initiatives. From 3:45 p.m. to 4:30 p.m., the Committee will conduct a tour of the Houston Regional Office (closed to the public). Tours of VA facilities are closed to protect Veterans' privacy and personal information, in accordance with 5 U.S.C. Sec. 552b(c)(6).

On the morning of April 10 from 9:00 a.m. to 11:00 a.m., the Committee will convene in open session at the Houston National Cemetery followed by a tour of the cemetery. The Committee will meet with key staff to discuss services, benefits, delivery challenges and successes. In the evening, the Committee will hold a Veterans Town Hall meeting beginning at 4:30 p.m., at the United Way of Greater Houston—Community Resource Center.

On the morning of April 11 from 8:30 a.m. to 12:00 p.m., the Committee will convene in open session at the Michael E. DeBakey VA Medical Center (VAMC) to conduct an exit briefing with leadership from the Michael E. DeBakey VA Medical Center (VAMC), Houston Regional Office, and Houston National Cemetery. In the afternoon from 1:00 p.m. to 4:00 p.m., the Committee will work on drafting recommendations for the annual report to the Secretary.

Time will be allocated for receiving public comments on April 11, at 10:00 a.m. Public comments will be limited to three minutes each. Individuals wishing to make oral statements before the Committee will be accommodated on a first-come first serve basis. Individuals who speak are invited to submit a 1-2 page summary of their comments at the time of the meeting for inclusion in the official record. The Committee will accept written comments from interested parties on issues outlined in the meeting agenda, as well as other issues affecting minority Veterans from March 15 through April 5, 2019. Such comments should be sent to Ms. Juanita Mullen, Advisory Committee on Minority Veterans, Center for Minority Veterans (00M), Department of Veterans Affairs, 810 Vermont Avenue NW, Washington, DC 20420, or email at Juanita.Mullen@va.gov. For additional information about the meeting, please contact Ms. Juanita Mullen at (202) 461-6199.

Dated: March 22, 2019.
Jelessa M. Burney,
Federal Advisory Committee Management Officer.

[FR Doc. 2019-05874 Filed 3-26-19; 8:45 am]

BILLING CODE 8320-01-P